FEDERAL COMMUNICATIONS COMMISSION

47 CFR Part 54

[WC Docket Nos. 18-213, 20-89; FCC 20-44; FRS 16657]

Promoting Telehealth for Low-Income Consumers; COVID-19 Telehealth Program; Correction

AGENCY: Federal Communications Commission.

ACTION: Final order; correction; clarification of effective date.

SUMMARY: The Federal Communications Commission (Commission) corrects the DATES section of a document published on April 9, 2020 to provide clarification as it pertains to the effective date of the COVID-19 Telehealth Program.

DATES: This correction is effective April 9, 2020.

FOR FURTHER INFORMATION CONTACT: Rashann Duvall, Rashann.Duvall@fcc.gov, Telecommunications Access Policy Division, Wireline Competition Bureau, (202) 418-7400 or TTY: (202) 418-0484.

SUPPLEMENTARY INFORMATION:

Correction

In the Federal Register of April 9, 2020, in FR Doc. 2020-07587, on page 19892, correct the “DATES” caption to read as follows:

DATES: The Report and Order is effective May 11, 2020, except for the portions of the Report and Order discussing the COVID-19 Telehealth Program, which are effective April 9, 2020, and the information collections requiring Office of Management and Budget (OMB) approval. The Commission received OMB approval of the COVID-19 Telehealth Program information collection requirements on April 6, 2020, and those requirements are effective April 9, 2020. The Pilot Program information collection requirements will not become effective until approved by OMB. The Federal Communications Commission will publish a document in the Federal Register announcing the effective date of OMB approval of the Pilot Program requirements.

Dated: April 9, 2020.
Federal Communications Commission.
Cecilia Sigmund,
Federal Register Liaison Officer, Office of the Secretary.

[FR Doc. 2020-07823 Filed 4-9-20; 1:00 pm]

BILLING CODE 6712-01-P